NUCLEAR REGULATORY COMMISSION

10 CFR Part 50

Risk-Informed Treatment of Structures, Systems and Components

AGENCY: U.S. Nuclear Regulatory Commission.

ACTION: Availability of draft rule wording.

SUMMARY: The Nuclear Regulatory Commission (NRC) is making available the draft wording of a possible amendment of its regulations. The proposal would add 10 CFR 50.69, “Risk-Informed Treatment of Structures, Systems and Components.” The proposal would permit power reactor licensees and applicants to implement an alternative regulatory framework with respect to certain treatment requirements currently imposed beyond practices for commercial grade equipment to add assurance of capability of structures, systems and components (SSCs) to perform their intended functions. Under this framework, licensees, using a risk-informed process for categorizing SSC according to their safety and risk significance, could remove SSCs of low safety significance from the scope of certain identified treatment requirements. The availability of the draft wording is intended to inform stakeholders of the current status of the NRC's activities to adopt 10 CFR 50.69 and to provide stakeholders the opportunity to comment on the draft changes. The NRC has also provided additional (“[ ]”) information within the body of the draft rule language which is bracketed (“[ ]”) to facilitate understanding of the NRC's intent on certain aspects of the proposed rule.

DATES: Comments should be submitted on or before December 31, 2001. Any comments received after this date may not be considered during drafting of the proposed rule. Because of scheduling considerations in preparing a proposed rule, the NRC requests that stakeholders provide their comments at their earliest convenience before the end of the comment period, if practicable.

ADDRESSES: Submit written comments to: Secretary, U.S. Nuclear Regulatory Commission, Washington, DC 20555-0001, Attention: Rulemakings and Adjudications Staff, Mail Stop O-16C1 or deliver written comments to One White Flint North, 11555 Rockville Pike, Rockville, Maryland, between 7:30 a.m. and 4:15 p.m. on Federal workdays.

You may also provide comments via the NRC's interactive rulemaking Web site through the NRC's home page at http://ruleforum.llnl.gov. This site provides the capability to upload comments as files (any format), if your web browser supports that function. For information about the interactive rulemaking Web site, contact Ms. Carol Gallagher at (301) 415-5905 or by e-mail to cag@nrc.gov. Copies of any comments received and certain documents related to this rulemaking may be examined at the NRC Public Document Room, located at One White Flint North, 11555 Rockville Pike (first floor), Rockville, Maryland. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by email to pdr@nrc.gov.

FOR FURTHER INFORMATION CONTACT: Eileen M. McKenna, Risk-Informed Initiatives, Environmental, Decommissioning, and Rulemaking Branch, Division of Regulatory Improvement Programs, Office of Nuclear Reactor Regulation, U.S. Nuclear Regulatory Commission, Washington, DC 20555-0001; Telephone: (301) 415-2189; Internet: emm@nrc.gov.

SUPPLEMENTARY INFORMATION: Since the Commission published a Policy Statement on the Use of Probabilistic Risk Assessment in 1995, the NRC's efforts to consider risk insights in the regulatory infrastructure have evolved over the years. In SECY-98-300, dated December 23, 1998, under Option 2, the NRC staff proposed to add provisions to Part 50 for risk-informed alternative regulations, revise existing requirements to reflect risk-informed considerations, and to remove unnecessary or ineffective regulations. In SECY-99-256, dated October 29, 1999, the staff provided a rulemaking plan and an Advance Notice of Proposed Rulemaking (ANPR) for risk-informed changes using 10 CFR 50.69. In a Staff Requirements Memorandum dated January 31, 2000, the Commission directed the staff to proceed with the rulemaking and to publish the ANPR (65 FR 11488, March 3, 2000). In SECY-00-0194, dated September 7, 2000, the NRC staff subsequently communicated to the Commission its preliminary analysis of public comments on the ANPR and discussed issues involving 10 CFR 50.69.

The NRC has now developed draft wording for the changes to its regulations and has made them available on the NRC's rulemaking Web site at http://ruleforum.llnl.gov. This draft rule language is preliminary and may be incomplete in one or more respects. This draft rule language was released to inform stakeholders of the current status of the 10 CFR 50.69 rulemaking and to provide stakeholders with an opportunity to comment on the draft revisions. Comments received prior to publishing the proposed rule will be considered in the development of the proposed rule. Comments may be provided through the rulemaking Web site at http://ruleforum.llnl.gov/ or by mail as indicated under the ADDRESSES heading. The NRC may post updates periodically on the rulemaking Web site that may be of interest to stakeholders.

Dated at Rockville, Maryland, this 21st day of November 2001.
For the Nuclear Regulatory Commission.
Cynthia A. Carpenter,
Chief, Risk-Informed Initiatives, Environmental, Decommissioning, and Rulemaking Branch, Division of Regulatory Improvement Programs, Office of Nuclear Reactor Regulation.

[FR Doc. 01-29584 Filed 11-28-01; 8:45 am]

BILLING CODE 7590-01-P